FEDERAL MINE SAFETY AND HEALTH REVIEW COMMISSION

Sunshine Act Notice

March 16, 2017.

TIME AND DATE: 10:00 a.m., Thursday, March 30, 2017.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor v. Nally & Hamilton, Inc., Docket Nos. KENT 2012-749, et al. (Issues include whether the Judge erred in concluding that two violations dealing with highwall requirements were not significant and substantial.)

Any person attending this meeting who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

PHONE NUMBER FOR LISTENING TO ARGUMENT: 1-(866) 867-4769. Passcode: 129-339

Sarah L. Stewart,
Deputy General Counsel.

[FR Doc. 2017-05559 Filed 3-16-17; 4:15 pm]

BILLING CODE 6735-01-P